DEPARTMENT OF LABOR

Employment and Training Administration

[TA-W-53,791]

Vanguard Services, Inc., Highland, Indiana; Notice of Termination of Investigation

Pursuant to section 221 of the Trade Act of 1974, as amended, an investigation was initiated on December 12, 2003, in response to a petition filed by a representative of the Transportation-Communications International Union, AFL-CIO, CLC on behalf of workers of Vanguard Services, Inc., Highland, Indiana.

Two previous certifications (TA-W-51,611B and TA-W-51,611C) have been amended to include the petitioning worker group. Consequently, further investigation in this case would serve no purpose, and the investigation has been terminated.

Signed at Washington, DC, this 13th day of January, 2004.
Richard Church,
Certifying Officer, Division of Trade Adjustment Assistance.

[FR Doc. E4-133 Filed 1-27-04; 8:45 am]

BILLING CODE 4510-13-P